DEPARTMENT OF ENERGY

[Docket No. EA-168-C]

Application to Export Electric Energy; PG&E Energy Trading-Power, L.P.

AGENCY: Office of Fossil Energy, DOE.

ACTION: Notice of application.

SUMMARY: PG&E Energy Trading-Power, L.P. (“PGET-Power”) has applied for renewal of its authority to transmit electric energy from the United States to Canada pursuant to section 202(e) of the Federal Power Act.

DATES: Comments, protests or requests to intervene must be submitted on or before April 29, 2002.

ADDRESSES: Comments, protests or requests to intervene should be addressed as follows: Office of Coal & Power Import/Export (FE-27), Office of Fossil Energy, U.S. Department of Energy, 1000 Independence Avenue, SW, Washington, DC 20585-0350 (FAX 202-287-5736).

FOR FURTHER INFORMATION CONTACT: Xavier Puslowski (Program Office) 202-586-6807 or Michael Skinker (Program Attorney) 202-586-2793.

SUPPLEMENTARY INFORMATION: Exports of electricity from the United States to a foreign country are regulated and require authorization under section 202(e) of the Federal Power Act (FPA) (16 U.S.C. 824a(e)).

On February 25, 1998, the Office of Fossil Energy (FE) of the Department of Energy (DOE) authorized PGET-Power to transmit electric energy from the United States to Canada using the international transmission facilities of Detroit Edison, Minnesota Power, Niagara Mohawk and New York Power Authority. On August 25, 1998, in Order EA-168-A, DOE amended PGET-Power's electricity export authorization to add the remaining major transmission interconnections with Canada. That two-year authorization expired on August 25, 2000. On July 6, 2000, PGET-Power filed an application with FE for renewal of its export authority. That authorization was issued on September 7, 2000 and will expire on September 7, 2002. On March 7, 2002, PGET-Power again filed an application for a two-year renewal of its export authority.

PGET-Power is a power marketer that does not own or control any electric generation or transmission facilities nor does it have a franchised electric service territory in the United States. PGET-Power will purchase the electric energy to be exported at wholesale from electric utilities and Federal Power Marketing Administrations in the United States.

PGET-Power proposes to arrange for the delivery of electric energy to Canada over the international transmission facilities owned by Basin Electric Power Cooperative, Bonneville Power Administration, Citizens Utilities, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company. The construction, operation, maintenance, and connection of each of the international transmission facilities to be utilized by PGET-Power has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the PGET-Power application to export electric energy to Canada should be clearly marked with Docket EA-168-C. Additional copies are to be filed directly with Sanford L. Hartman, Assistant General Counsel, PG&E Energy Trading—Power, L.P., 7500 Old Georgetown Road, Suite 1300, Bethesda, MD 20814-6161 and Ms. Sarah Barpoulis, Senior Vice President, PG&E Energy Trading—Power, L.P., 7500 Old Georgetown Road, Suite 1300, Bethesda, MD 20814-6161.

DOE notes that the circumstances described in this application are virtually identical to those for which export authority had previously been granted in FE Orders EA-168. Consequently, DOE believes that it has adequately satisfied its responsibilities under the National Environmental Policy Act of 1969 through the documentation of a categorical exclusion in the FE Docket EA-168 proceeding.

Copies of this application will be made available, upon request, for public inspection and copying at the address provided above or by accessing the Fossil Energy Home Page at http://www.fe.doe.gov. Upon reaching the Fossil Energy Home page, select “Electricity Regulation,” and then “Pending Procedures” from the options menus.

Issued in Washington, DC, on March 25, 2002.
Anthony J. Como,
Deputy Director, Electric Power Regulation, Office of Coal & Power Import/Export, Office of Coal & Power Systems, Office of Fossil Energy.

[FR Doc. 02-7593 Filed 3-28-02; 8:45 am]

BILLING CODE 6450-01-P